DEPARTMENT OF COMMERCE

National Oceanic and Atmospheric Administration

[I.D. 031105H]

Endangered Species; File No. 1295

AGENCY: National Marine Fisheries Service (NMFS), National Oceanic and Atmospheric Administration (NOAA), Commerce.

ACTION: Receipt of application for modification

SUMMARY: Notice is hereby given that the NMFS Northeast Fisheries Science Center (Responsible Official- Dr. John Boreman), 166 Water Street, Woods Hole, MA 02543-1097, has requested a modification to scientific research Permit No. 1295.

DATES: Written, telefaxed, or e-mail comments must be received on or before April 20, 2005.

ADDRESSES: The modification request and related documents are available for review upon written request or by appointment in the following office(s):

Permits, Conservation and Education Division, Office of Protected Resources, NMFS, 1315 East-West Highway, Room 13705, Silver Spring, MD 20910; phone (301)713-2289; fax (301)427-2521; and

Northeast Region, NMFS, One Blackburn Drive, Gloucester, MA 01930-2298; phone (978)281-9328; fax (978)281-9394.

Written comments or requests for a public hearing on this request should be submitted to the Chief, Permits, Conservation and Education Division, F/PR1, Office of Protected Resources, NMFS, 1315 East-West Highway, Room 13705, Silver Spring, MD 20910. Those individuals requesting a hearing should set forth the specific reasons why a hearing on this particular modification request would be appropriate.

Comments may also be submitted by facsimile at (301)427-2521, provided the facsimile is confirmed by hard copy submitted by mail and postmarked no later than the closing date of the comment period.

Comments may also be submitted by e-mail. The mailbox address for providing email comments is NMFS.Pr1Comments@noaa.gov. Include in the subject line of the e-mail comment the following document identifier: File No. 1295.

FOR FURTHER INFORMATION CONTACT: Patrick Opay or Ruth Johnson, (301)713-2289.

SUPPLEMENTARY INFORMATION: The subject modification to Permit No. 1295, issued on June 4, 2001 (66 FR 29934) is requested under the authority of the Endangered Species Act of 1973, as amended (16 U.S.C. 1531 et seq.), and the regulations governing the taking, importing, and exporting of endangered and threatened species (50 CFR 222-226).

Permit No. 1295 authorizes the permit holder to take loggerhead (Caretta caretta), leatherback (Dermochelys coriacea), Kemp's ridley (Lepidochelys kempii), hawksbill (Eretmochelys imbricata), and green (Chelonia mydas) sea turtles for scientific research. The current permit authorizes the sampling of turtles taken during bottom trawl, scallop, acoustic and Illex squid surveys; research designed to develop and test methods to reduce incidental bycatch of sea turtles that occurs in a commercial pound net fishery of Virginia; sampling during research designed to develop and test methods to reduce incidental bycatch of sea turtles that occurs in scallop drag fisheries; and the sampling of sea turtles captured during the NMFS Northeast Fishery Science Center's biennial shark longline surveys. The permit holder requests authorization to extend the duration of the pound net experiment from 42 days to 55 days. The permit holder also requests an increase in the number of annual lethal takes of loggerhead sea turtles from 2 to 4, the number of annual lethal takes of Kemp's ridley sea turtles from 3 to 6, and the number of annual lethal takes of green sea turtles from 0 to 1. The permit holder also asks for a total annual take increase of leatherbacks from 1 to 2 including an increase in allowed annual lethal takes from 0 to 1, and the addition of 1 hawksbill annual take that may be lethal. This research permit expires May 31, 2006. The requested modifications are necessary so the permit holder can continue bycatch reduction research relating to the pound net fishery.

Dated: March 16, 2005.
Stephen L. Leathery,
Chief, Permits, Conservation and Education Division, Office of Protected Resources, National Marine Fisheries Service.

[FR Doc. 05-5540 Filed 3-18-05; 8:45 am]

BILLING CODE 3510-22-S